DEPARTMENT OF HEALTH AND HUMAN SERVICES

National Institutes of Health

National Eye Institute; Notice of Open Meeting

The National Eye Institute will host an Ocular Epidemiology Program Planning Panel Meeting to discuss research needs and opportunities in ocular epidemiology. The meeting will be open to the public.

The thoughts and input from this meeting will be given by the panel members individually and incorporated into a report that will be given to the National Eye Institute.

Name of Panel: Ocular Epidemiology Panel.

Date: May 24-25, 2007.

Time: 8 a.m.-5 p.m.

Agenda: To discuss the Ocular Epidemiology Research.

Place: Hyatt Regency Bethesda, One Bethesda Metro Center, (7400 Wisconsin Avenue), Bethesda, MD 20814.

Contact Person: Mr. Michael Davis, Associate Director for Science Policy and Legislation, National Eye Institute, Bldg. 31; Room 6A25, 31 Center Drive MSC 2510, Bethesda, MD 20892, (301) 496-4308.

This notice is being published less than 15 days prior to the meeting due to the timing limitations imposed by the review and funding cycle.

Any interested person may file written comments with the panel by forwarding the statement to the Contact Person listed on this notice. The statement should include the name, address, telephone number and when applicable, the business or professional affiliation of the interested person.

(Catalogue of Federal Domestic Assistance Program Nos. 93.867, Vision Research, National Institutes of Health, HHS)

Dated: May 8, 2007.
Jennifer Spaeth,
Director, Office of Federal Advisory Committee Policy.

[FR Doc. 07-2425 Filed 5-16-07; 8:45 am]

BILLING CODE 4140-01-M